DEPARTMENT OF HEALTH AND HUMAN SERVICES

[Docket No. HHS-OS-2019-0015]

Solicitation for Public Comments on Questions From the National Clinical Care Commission

AGENCY: Office of Disease Prevention and Health Promotion, Office of the Assistant Secretary for Health, Office of the Secretary, Department of Health and Human Services.

ACTION: Request for public comment.

SUMMARY: The National Clinical Care Commission (the Commission) solicits public comments on a set of questions concerning the context, policies, effectiveness, promising practices, and limitations and gaps related to prevention and treatment of diabetes and its complications. The Commission is charged to evaluate and make recommendations to the Secretary of Health and Human Services (HHS) and Congress regarding improvements to the coordination and leveraging of federal programs related to awareness and clinical care for diabetes and its complications. The set of questions is available in the SUPPLEMENTARY INFORMATION section, below.

DATES: Electronic or written/paper comments will be accepted through midnight Eastern Standard Time (EST) February 3, 2020.

ADDRESSES: Public comments can be submitted in the following ways:

• Electronic submissions can be filed on the online docket at http://www.regulations.gov by following the “Instructions for Public Comments” section, below. Evidence and information supporting your comments can be submitted as attachments. Comments submitted electronically, including supporting attachments, will be posted to the docket unchanged. Please provide your contact information or organization name on the web-based form for potential follow up by the Commission.

• If you prefer to comment on paper, mail your comments to the following address: Public Commentary, National Clinical Care Commission, 1101 Wootton Parkway, Suite 420, Rockville, MD 20852. For mailed submissions, the Office of Disease Prevention and Health Promotion will post your comments, as well as any attachments, to http://www.regulations.gov.

Instructions for Public Comments: All electronic submissions must be submitted in the Docket ID HHS-OS-2019-0015 for “Solicitation for Public Comments on Questions from the National Clinical Care Commission.” For access to the docket to provide and/or read all comments received, go to https://www.regulations.gov and insert the docket ID HHS-OS-2019-0015 into the search box and follow the prompts.

Comments are encouraged from the public and will be accepted through February 3, 2020. The https://www.regulations.gov electronic filing system will accept electronic comments until midnight Eastern Standard Time at the end of February 3, 2020. Comments received by mail/courier will be considered if they are postmarked or the delivery service acceptance receipt date is on or before that date. Written comments via mail will be uploaded into https://www.regulations.gov and are under the same limitations as for those directly submitted electronically into https://www.regulations.gov: 5,000-character limit for text box, and maximum number (10) of attached files and maximum size (10 MB) of each attached file.

FOR FURTHER INFORMATION CONTACT: Linda Harris, Designated Federal Officer, National Clinical Care Commission, U.S. Department of Health and Human Services, Office of the Assistant Secretary for Health, Office of Disease Prevention and Health Promotion, 1101 Wootton Parkway, Suite 420, Rockville, MD 20852. Email: linda.harris@hhs.gov.

SUPPLEMENTARY INFORMATION: The National Clinical Care Commission Act (Pub. L. 115-80) requires the HHS Secretary to establish the National Clinical Care Commission. The Commission consists of representatives of specific federal agencies and non-federal individuals and entities who represent diverse disciplines and views. The Commission will evaluate and make recommendations to the HHS Secretary and Congress regarding improvements to the coordination and leveraging of federal programs related to awareness and clinical care for diabetes and its complications.

The Commission invites members of the public to comment on any issues or concerns they believe are relevant or appropriate to the Commission's evaluation of federal programs. Specifically, the Commission requests public comment on the following questions:

1. Context: What social, economic, and/or environmental factors have the greatest impact on health care in general—and also on prevention (Type 2) and/or management of diabetes (both Type 1 and Type 2)? What can be done by the federal government to address those social/economic/environmental factors?

2. Policies: What policies should the federal government implement to improve diabetes prevention and/or management? What is the evidence to support those?

3. Effectiveness: What specific recommendations do you have for federal agencies to be more effective and/or to collaborate better to prevent and/or help manage diabetes? What is the basis for your specific recommendations?

4. Promising Practices: What are the best and/or most promising practices to prevent diabetes and/or to improve diabetes outcomes? What is the evidence to support them?

5. Limitations and gaps: What are the greatest limitations or gaps in federal programs to prevent diabetes and/or to improve diabetes outcomes? What could the Federal government do to close the gaps? Are there specific research needs? Are there specific research needs or programs that would benefit from new or increased collaboration across federal agencies?

Don Wright,
Deputy Assistant Secretary for Health, Disease Prevention and Health Promotion.

[FR Doc. 2020-00505 Filed 1-14-20; 8:45 am]

BILLING CODE 4150-32-P